DEPARTMENT OF COMMERCE

National Oceanic and Atmospheric Administration

[RTID 0648-XD884]

North Pacific Fishery Management Council; Public Meeting

AGENCY: National Marine Fisheries Service (NMFS), National Oceanic and Atmospheric Administration (NOAA), Commerce.

ACTION: Notice of public meeting.

SUMMARY: The Center of Independent Experts (CIE) review of the Gulf of Alaska walleye pollock stock assessment will be held in May, in Seattle, WA.

DATES: The meeting will be held on Tuesday, May 7, 2024 through Thursday, May 9, 2024, from 10 a.m. to 5 p.m., Pacific Time.

ADDRESSES:

Meeting address: The meeting will be in-person only and will be held in Room 2079 on Tuesday, May 7, 2024 and in Room 2143 on May 8-9, 2024, at the Alaska Fishery Science Center, Sand Point Way NE, Building 4, Seattle, WA 98115.

If you plan to attend, you need to notify Cole Monnahan (cole.monnahan@noaa.gov) at least 2 days prior to the meeting (or 2 weeks prior if you are a foreign national). You will also need a valid U.S. Identification Card.

Council address: North Pacific Fishery Management Council, 1007 W 3rd Ave., Anchorage, AK 99501-2252; telephone: (907) 271-2809.

FOR FURTHER INFORMATION CONTACT: Cole Monnahan, Alaska Fishery Science Center staff; phone: (206) 526-4224; email: cole.monnahan@noaa.gov.

SUPPLEMENTARY INFORMATION:

Agenda

Tuesday, May 7, 2024 Through Thursday, May 9, 2024

The CIE will review the Gulf of Alaska walleye pollock stock assessment input data and model. The agenda is subject to change, and the latest version will be posted at https://apps-afsc.fisheries.noaa.gov/Plan_Team/2024_GOA_pollock_cie/ prior to the meeting, along with meeting materials.

Authority: 16 U.S.C. 1801 et seq.

Dated: April 16, 2024.
Rey Israel Marquez,
Acting Deputy Director, Office of Sustainable Fisheries, National Marine Fisheries Service.

[FR Doc. 2024-08402 Filed 4-18-24; 8:45 am]

BILLING CODE 3510-22-P